NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Science (#66).

Date and Time: November 15, 2018; 12 p.m. to 4:30 p.m. November 16, 2018; 8:30 a.m. to 4:30 p.m.

Place: NSF, 2415 Eisenhower Avenue, Alexandria, VA 22314.

Type of Meeting: Open.

Contact Person: Nadège Aoki, National Science Foundation, 2415 Eisenhower Avenue, Room C 9015B, Alexandria, Virginia 22314; Telephone: 703/292-4934.

Purpose of Meeting: To provide advice, recommendations and counsel on major goals and policies pertaining to MPS programs and activities.

Agenda

Thursday, November 15, 2018 12 p.m.-4:30 p.m.

• Update on MPS Activities from Assistant Director Anne Kinney

• Presentation and Discussion—Big Ideas: NSF INCLUDES

• MPS Distinguished Lecture: Does Data Size Matter?

• Presentation and Discussion—Big Ideas: Mid-Scale Research Infrastructure

Friday, November 16, 2018 8:30 a.m.-4:30 p.m.

• Presentations: Upcoming Division Opportunities for Community Input

• Discussion: MPS Strategic Vision for the Future

• Discussion with NSF Director and COO

Dated: October 16, 2018.
Crystal Robinson,
Committee Management Officer.

[FR Doc. 2018-22852 Filed 10-18-18; 8:45 am]

BILLING CODE 7555-01-P